SMALL BUSINESS ADMINISTRATION

[Disaster Declaration # 10567 and # 10568]

Texas Disaster Number TX-00195

AGENCY: U.S. Small Business Administration.

ACTION: Amendment 2.

SUMMARY: This is an amendment of the Presidential declaration of a major disaster for the State of Texas (FEMA-1658-DR), dated 08/15/2006.

Incident: Severe Storms and Flooding.

Incident Period: 07/27/2006 and continuing through 08/25/2006.

DATES: Effective Date: 09/12/2006.

Physical Loan Application Deadline Date: 10/16/2006.

EIDL Loan Application Deadline Date: 05/15/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Texas, dated 08/15/2006, is hereby amended to re-establish the incident period for this disaster as beginning 07/27/2006 and continuing through and including 08/25/2006. The incident type is also amended and is now severe storms and flooding.

All other information in the original declaration remains unchanged.

(Catalog of Federal Domestic Assistance Numbers 59002 and 59008)

Herbert L. Mitchell,
Associate Administrator for Disaster Assistance.

[FR Doc. 06-7787 Filed 9-19-06; 8:45 am]

BILLING CODE 8025-01-P